DEPARTMENT OF JUSTICE

Notice of Lodging of Proposed Amendment to Consent Decree Under the Clean Air Act

Notice is hereby given that on June 14, 2010, a proposed Consent Decree, pertaining to United States v. Silgan Containers LLC, Civ. No. 2:1-cv-00498, was lodged with the United States District Court for the Eastern District of Wisconsin.

In this action, the United States seeks civil penalties and injunctive relief for alleged violations of the Clean Air Act (“CAA”), 42 U.S.C. 7401 to 7671q, and the requirements adopted as part of applicable State Implementation Plans at sixteen canning facilities that are currently or were formerly owned and/or operated (directly or indirectly) by Silgan Containers LLC (“Silgan”). In several cases, Silgan is the successor to a company that owned a facility at the time of the violations in question. The alleged violations were reported by Silgan following a nationwide audit of its facilities. The facilities involved in this action are located in Tarrant, Alabama; Broadview and Rochelle, Illinois; Hammond, Indiana; Ft. Dodge, Iowa; Benton Harbor, Michigan; St. Paul, Minnesota; St. Joseph and Mt. Vernon, Missouri; Edison, New Jersey; Lyons, New York; Maxton, North Carolina; Toppenish, Washington (within the Yakama Nation Indian Reservation); and Oconomowoc, Menomonie, and Menomonee Falls, Wisconsin.

The proposed Consent Decree would require Silgan to: (a) Pay a civil penalty of $365,000; (b) undertake injunctive relief in the form of capital improvements at Oconomowoc, Wisconsin, at a cost of approximately $1.1 million; (c) obtain a Non-Title V minor source permit at its Toppenish, Washington facility (within the Yakama Nation Indian Reservation); (d) shut down two manufacturing lines at Hoopeston, Illinois; and (e) retire certain emission credits issued by the San Joaquin Valley Air Pollution Control District (resulting in VOC emission reductions of 22.26 tpy). The complaint does not allege any violations at Silgan's Hoopeston Facility; however, to compensate for harm to the environment at Oconomowoc, Silgan will shut down two can lines at Hoopeston, resulting in VOC emission reductions of 2.87 tons per year. Additionally, Silgan's retirement of emission credits issued by the San Joaquin Valley Air Pollution Control District is part of the overall settlement package and does not relate to any reported violations in California or U.S. EPA Region 9.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Silgan Containers LLC, D.J. Ref. 90-5-2-1-08620. The proposed Consent Decree may be examined at the Office of the United States Attorney for the Eastern District of Wisconsin, 530 Federal Courthouse, 517 E. Wisconsin Avenue, Milwaukee, Wisconsin 53202 (contact Asst. U.S. Attorney Susan M. Knepel (414-297-1700). During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.50 (25 cents per page reproduction cost), for the consent decree alone, or in the amount of $14.75(for the consent decree and all appendices) payable to the U.S. Treasury or, if by email or fax, forward a check in that amount to the Consent Decree Library at the stated address.

Maureen Katz,
Assistant Chief, Environmental, Enforcement Section, Environment and Natural Resources Division.

[FR Doc. 2010-15009 Filed 6-21-10; 8:45 am]

BILLING CODE 4410-15-P